DEPARTMENT OF DEFENSE

Office of the Secretary

[Docket ID: DOD-2016-OS-0122]

Publication of the Manual for Courts-Martial, United States (2016 ed.) and Updated Supplementary Materials

AGENCY: Joint Service Committee on Military Justice (JSC), Department of Defense.

ACTION: Publication of the Manual for Courts-Martial, United States (2016 ed.) (MCM) and updated Supplementary Materials.

SUMMARY: The JSC announces the publication of the MCM and updates to the Supplementary Materials accompanying the MCM.

DATES: The publication and dispersing of the published MCM is to occur immediately. An electronic version of the MCM is available online at the JSC Web site at http://jsc.defense.gov.

FOR FURTHER INFORMATION CONTACT: Major Harlye S.M. Carlton, USMC, (703) 963-9299 or harlye.carlton@usmc.mil. The JSC Web site is located at: http://jsc.defense.gov.

SUPPLEMENTARY INFORMATION:

The MCM includes updates as a result of Executive Order (EO) 13643 (May 15, 2013); EO 13669 (June 13, 2014); EO 13696 (June 17, 2015); EO 13730 (May 20, 2016); and EO 13740 (September 16, 2016). It also incorporates amendments to the Supplementary Materials accompanying the MCM as published in the Federal Register on July 8, 2015 (80 FR 39077-39089), July 16, 2015 (80 FR 42092-42093), March 22, 2016 (81 FR 15278-15289), June 15, 2016 (81 FR 39035-39039), November 8, 2016 (81 FR 78576-78589), and December 8, 2016 (81 FR 88671). Additionally, it includes Department of Defense Office of General Counsel-approved updates to the following Supplementary Materials:

1. Preface—Lists source documents that amended the MCM and refers individuals to the JSC Web site for source documents.

2. App. 2: Uniform Code of Military Justice—Incorporates amendments contained within the Fiscal Year 2014, 2015, and 2016 National Defense Authorization Acts.

3. App. 3: DoD Directive 5525.7—Updates reference to DoD Instruction 5525.07, “Implementation of the Memorandum of Understanding (MOU) Between the Departments of Justice (DoJ) and Defense Relating to the Investigation and Prosecution of Certain Crimes,” June 18, 2007.

4. App. 4: Charge Sheet (DD Form 458)—Now a blank form.

5. App. 5: Preliminary Hearing Officer's Report (DD Form 457)—Includes updated DD form.

6. App. 7: Subpoena (DD Form 453)—Now a blank form.

7. App. 8: Guide for Special Courts-Martial and General Courts-Martial—Minor and stylistic changes.

8. App. 9: Guide for Summary Courts-Martial—Minor and stylistic changes.

9. App. 10: Forms of Findings—Clarifies forms of findings.

10. App. 11: Forms of Sentences—Removes confinement on bread and water or diminished rations as lawful punishment to conform with the Rules for Courts-Martial.

11. App. 12: Maximum Punishment Chart—Reflects changes made by Supplementary Materials accompanying EO 13740 of September 16, 2016.

12. App. 12A: Lesser Included Offenses Chart—New; reflects changes made by Supplementary Materials accompanying EO 13740 of September 16, 2016.

13. App. 13: Guide for Preparation for Record of Trial (Not Verbatim)—Accounts for qualifying victims receiving the record of trial and other minor and stylistic changes.

14. App. 14: Guide for Preparation for Record of Trial (Verbatim)—Accounts for qualifying victims receiving the record of trial and other minor and stylistic changes.

15. App. 15: Record of Trial for Summary Courts-Martial—Now a blank form.

16. App. 16: Forms for Action—Adds qualifications based on changes to Article 60 and R.C.M. 1107.

17. App. 18: Report of Vacation Hearing (DD Form 455)—Removed due to changes to R.C.M. 1109.

18. App. 19: Waiver/Withdrawal of Appellate Rights (Review by Court of Criminal Appeals) (DD Form 2330)—Includes updated DD Form.

19. App. 20: Waiver/Withdrawal of Appellate Rights (Review by Office of Judge Advocate General) (DD Form 2331)—Includes updated DD Form.

20. App. 21: Analysis of RCMs—Modifies introductory language and includes changes based on Supplementary Materials approved since MCM (2012 ed.).

21. App. 22: Analysis of Mil. R. Evid.—Modifies introductory language and includes changes based on Supplementary Materials approved since MCM (2012 ed.).

22. App. 23: Analysis of Punitive Articles—Modifies language based on Supplementary Materials approved since MCM (2012 ed.).

23. App. 25: Historical Executive Orders—Modifies introductory language to reference JSC Web site and adds Executive Orders signed since MCM (2012 ed.).

24. Table of Contents and Index—Makes conforming amendments based on changes to MCM.

Any of the aforementioned changes that did not undergo public comment are administrative, technical, or conforming, and therefore public comment was unnecessary or contrary to the sound administration of justice.

Dated: December 30, 2016.
Aaron Siegel,
Alternate OSD Federal Register Liaison Officer, Department of Defense.

[FR Doc. 2016-32010 Filed 1-4-17; 8:45 am]

BILLING CODE 5001-06-P